DEPARTMENT OF THE INTERIOR

Bureau of Land Management, Interior

[MT066-1220-FV]

Notice of Intent To Collect Fees on Public Land in Chouteau County, Montana Under the Federal Lands Recreation Enhancement Act (REA) and Impose Supplementary Rules

AGENCY: Bureau of Land Management, Lewistown Field Office, Fort Benton, Montana.

ACTION: Notice of intent.

SUMMARY: The Bureau of Land Management proposes to establish fees and supplementary rules for the Upper Missouri River Breaks National Monument (UMRBNM) Interpretive Center for public use of the day-use areas. The fees are authorized under the Federal Lands Recreation Enhancement Act (REA), 16 U.S.C. 6801 et seq. The UMRBNM Interpretive Center qualifies as a site wherein visitors can be charged a “Standard Amenity Recreation Fee” authorized under section 3(4)(f) of the REA, for a recreation use permit described at 43 CFR part 2930. The supplementary rules, developed pursuant to 43 CFR 8365.1-6, are necessary for human health and safety and to protect the natural resources of the site. In accordance with BLM recreation fee program policy, the business plan explains the fee collection process, as well as outlining how the fees will be used at the UMRBNM Interpretive Center. BLM has notified and involved the public at each stage of the planning process, including the proposal to collect fees.

DATES: There will be a thirty (30) day public comment period that will expire 30 days after publication of this notice. The public is encouraged to participate in the public comment period. Effective 6 months after the publication of this notice, the Bureau of Land Management, Lewistown Field Office will initiate fee collection in the UMRBNM Interpretive Center, unless BLM publishes a Federal Register notice to the contrary. The Central Montana Resource Advisory Council (RAC) will review consideration for the new fee at least 3 months prior to the proposed initiation date. BLM may not necessarily consider or include in the Administrative Record for the final supplementary rules comments that are received after the close of the comment period described in this paragraph or comments that are delivered to an address other than that listed in the following paragraph.

ADDRESSES: (1) You may mail comments on the proposed fee and supplementary rules to Bureau of Land Management (BLM), Field Manager, Lewistown Field Office, 920 NE Main Street, Lewistown, MT 59457; (2) You may hand deliver comments to the Bureau of Land Management at the same address.

FOR FURTHER INFORMATION CONTACT: June Bailey, Field Office Manager, Bureau of Land Management, 920 NE Main Street, Lewistown, MT 59457, 406-538-1900.

SUPPLEMENTARY INFORMATION: The UMRBNM Interpretive Center is a day-use site located at the head of the Wild and Scenic Upper Missouri River, and the Upper Missouri River Breaks National Monument in Fort Benton, Montana. Pursuant to the REA, a fee per person will be charged for day use. BLM will charge separate fees for day use, educational tours, area passes and group reservations of the center. These fees will be posted at the UMRBNM Interpretive Center, at the Web site http://www.mt.blm.gov/ldo/um/docs/interpretivecenter.htm, and at the Lewistown Field Office in Lewistown, MT. Fees must be paid at the front desk located in the lobby of the interpretive center. People holding a River and Plains Society partnership pass; the America The Beautiful—The National Parks and Federal Recreational Lands Pass (i.e. the Interagency Annual Pass, Interagency Senior Pass, Interagency Access Pass, and Interagency Volunteer Pass); the National Parks Pass with Golden Eagle Hologram; and the Golden Eagle, Golden Age or Golden Access Passports will be entitled to free admission to the UMRBNM Interpretive Center.

The REA provides authority for 10 years for the Secretary of the Interior and the Secretary of Agriculture to establish, modify, charge, and collect recreation fees for use of some Federal recreation lands and waters, and contains specific provisions addressing public involvement in the establishment of recreation fees, including a requirement that Recreation Resource Advisory Committees or Councils have the opportunity to make recommendations regarding establishment of such fees. REA also directed the Secretaries of the Interior and Agriculture to publish advance notice in the Federal Register whenever new recreation fee areas are established under their respective jurisdictions. In accordance with BLM recreation fee program policy, the Lewistown Field Office UMRBNM Interpretive Center business plan explains the fee collection process, and outlines how the fees will be used at the UMRBNM Interpretive Center. BLM has notified and involved the public at each stage of the planning process, including the proposal to collect fees. Fee amounts will be posted on-site, and at the Lewistown Field Office, and copies of the business plan will be available at the Lewistown Field Office and the BLM Montana State Office.

The supplementary rules proposed pursuant to 43 CFR 8366.1-5 will not create a serious inconsistency or otherwise interfere with an action taken or planned by another agency. These proposed supplementary rules do not alter the budgetary effects of entitlements, grants, user fees, or loan programs or the rights or obligations of their recipients; nor do they raise novel legal or policy issues. They merely impose rules of conduct and other limitations on certain recreational activities at a recreation site at the UMRBNM Interpretive Center to protect natural resources and human health and safety. This new interpretive center opened to the public on October 18, 2006. Fees have not been charged at this site in the past. Information concerning the proposed new fees has been available on the BLM Web site, is posted on site, has been written up in local newspapers, and has been spread through word of mouth from on-site volunteer hosts and local users. These efforts will continue following publication of this notice, with additional press releases to local news media.

Clarity of the Supplementary Rules

Executive Order 12866 requires each agency to write regulations that are simple and easy to understand. The BLM invites your comments on how to make these proposed supplementary rules easier to understand, including answers to questions such as the following: (1) Are the requirements in the proposed supplementary rules clearly stated? (2) Do the proposed supplementary rules contain technical language or jargon that interferes with their clarity? (3) Does the format of the proposed supplementary rules (grouping and order of sections, use of headings, paragraphing, etc.) aid or reduce their clarity? (4) Would the supplementary rules be easier to understand if they were divided into more (but shorter) sections? (5) Is the discussion of the proposed supplementary rules in the SUPPLEMENTARY INFORMATION section of this preamble helpful to your understanding of the proposed supplementary rules? and (6) How could this material be more helpful in making the proposed supplementary rules easier to understand?

BLM welcomes public comments on this proposal, both as to the proposed fee and supplementary rules. Please send any comments to the address specified in the ADDRESSES section. Before including your address, phone number, e-mail address, or other personal identifying information in your comment, you are advised that your entire comment—including your personal identifying information—may be made publicly available at any time. While you can ask us in your comment to withhold from public review your personal identifying information, we cannot guarantee that we will be able to do so.

National Environmental Policy Act

BLM prepared Environmental Impact Statement No. MT 060-02-16 (EIS) to analyze the environmental impacts of the construction of the UMRBNM Interpretive Center. These proposed supplementary rules are designed to mitigate potential user-related issues discussed in the environmental impact statement. While the EIS does not include or analyze specific language for the proposed rules, it does inform the public that rules for use of the area will be developed to reduce user/residential conflicts and to protect important resources and values of the area.

The EIS states that visitation to the area is expected to increase with time, and this would occur in a primarily residential area. This would adversely impact a quiet residential area due to increased traffic on Front Street. Using Front Street and not Main Street as the primary access route would create less residential impact since there are fewer homes on Front Street than on Main Street.

The proposed supplementary rules are designed to mitigate these specific issues addressed in the EIS. The BLM has found that the proposed supplementary rules would not constitute a major Federal action significantly affecting the quality of the human environment under section 102(2)(C) of the Environmental Protection Act of 1969 (NEPA), 42 U.S.C. 4332(2)(C). The EIS is available for review in the BLM Administrative Record at the address specified in the ADDRESSES section.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These proposed supplementary rules should have no effect on business entities of whatever size. They merely would impose reasonable restrictions on certain recreational activities on the UMRBNM to protect natural resources and the environment, and human health and safety.

To determine an appropriate fee structure, BLM has worked with its partners in the project, the city of Fort Benton and the River and Plains Society. The River and Plains Society is responsible for administering three interpretive sites in Fort Benton: The Old Fort, the Agricultural Museum and Pioneer Village, and the Museum of the Upper Missouri (local Fort Benton history and ‘tall tales’). BLM has also queried managers of regional recreational facilities, including the Lewis and Clark Interpretive Center, Ulm Pishkun State Park, Giant Springs State Park as well as the C.M. Russell Museum, all in Great Falls. As part of this process, BLM will work closely with its partners in Fort Benton to assure them of appropriate and commensurate fees. BLM also plans to offer an ‘area pass’ that can be purchased at any site, and allow the ticket holder admittance to any of these venues in Fort Benton. In addition, the proposed fees will be consistent with fees being charged for the same services at other public and BLM facilities. Therefore, BLM has determined under the RFA that these proposed supplementary rules would not have a significant economic impact on a substantial number of small entities.

Small Business Regulatory Enforcement Fairness Act (SBREFA)

These proposed supplementary rules are not a “major rule” as defined at 5 U.S.C. 804(2). They would not result in an effect on the economy of $100 million or more, in an increase in costs or prices, or in significant adverse effects on competition, employment, investment, productivity, innovation, or on the ability of United States-based enterprises to compete with foreign-based enterprises in domestic and export markets. They would merely impose reasonable restrictions on certain activities at one recreation site within the Upper Missouri River Breaks National Monument and inside the city limits of Fort Benton, to protect natural resources and the environment, and human health and safety. The user fees proposed for the site are comparable to fees charged for similar facilities in the region and will not unfairly compete with local small businesses.

Unfunded Mandates Reform Act

These proposed supplementary rules do not impose an unfunded mandate on State, local or Tribal governments or the private sector of more than $100 million per year; nor do these proposed supplementary rules have a significant or unique effect on State, local, or tribal governments or the private sector. They would merely impose reasonable restrictions on certain activities at one recreation site within the UMRBNM Interpretive Center and inside the city limits of Fort Benton to protect natural resources and the environment, and human health and safety. Therefore, BLM is not required to prepare a statement containing the information required by the Unfunded Mandates Reform Act (2 U.S.C. 1531 et seq.)

Executive Order 12630, Governmental Actions and Interference With Constitutionally Protected Property Rights (Takings)

The proposed supplementary rules do not represent a government action capable of interfering with constitutionally protected property rights. The proposed supplementary rules would have no effect on private lands or property. Therefore, the Department of the Interior has determined that the rule would not cause a taking of private property or require preparation of a takings assessment under this Executive Order.

Executive Order 13132, Federalism

The proposed supplementary rules would not have a substantial direct effect on the States, on the relationship between the national government and the States, or on the distribution of power and responsibilities among the various levels of government. The proposed supplementary rules would have no effect on State or local government, and specifically exempt State and local government law enforcement and emergency personnel and activities from the effect of the supplementary rules. Therefore, in accordance with Executive Order 13132, BLM has determined that these proposed supplementary rules do not have sufficient federalism implications to warrant preparation of a federalism assessment.

Executive Order 12988, Civil Justice Reform

Under Executive Order 12988, the Office of the Solicitor determined that these proposed supplementary rules would not unduly burden the judicial system and that they meet the requirements of sections 3(a) and 3(b)(2) of the Order.

Executive Order 13175, Consultation and Coordination With Indian Tribal Governments

Coordination and consultation as to development of the UMRBNM Interpretive Center and the proposed establishment of new fees has included contact with the following Tribal entities: Blackfeet, Nez Perce and Little Shell Band of the Chippewa Tribes. As a result of the consultation and coordination, in accordance with Executive Order 13175, BLM has found that these proposed fees and supplementary rules for the recreation site do not include policies that have Tribal implications.

Paperwork Reduction Act

These proposed supplementary rules do not contain information collection requirements that the Office of Management and Budget must approve under the Paperwork Reduction Act of 1995, 44 U.S.C. 3501 et seq.

Author

The principal author of these proposed supplementary rules is Connie Jacobs, UMRBNM Interpretive Center, Lewistown Field Office, Bureau of Land Management. The proposed supplementary rules for the UMRBNM Interpretive Center will go into effect six months after the publication of this notice. The supplementary rules will be posted at the site, in the center and the Lewistown Field Office and on the Web site http://www.mt.blm.gov/ldo/index.html.

The following supplementary rules are established for the interpretive center site:

1. Rules.

a. No parking at the site overnight; no parking lot use from 10:30 p.m. through 6 a.m.

b. Vehicles and camping gear may not be left unattended in the parking lot or interpretive center site for longer than 24 hours.

c. Firearms, bows and arrows, other weapons, air rifles, paintball equipment, pistols and any projectile may not be discharged in the parking lot or on the interpretive center site at any time.

d. Persons using the interpretive center will be subject to a standard amenity fee. Future adjustments in the fee amount will be modified in accordance with the BLM Upper Missouri River Breaks National Monument Interpretive Center business plan, consultation with the Central Montana Resource Advisory Council and other public notice prior to a fee increase. All fee information will be on the Web site http://www.blm.gov/mt/st/en/fo/lewistown_field_office.html and posted at the Lewistown Field Office and the UMRBNM Interpretive Center. Fee amounts are posted on-site, at the BLM Montana State Office, and the BLM Lewistown Field Office. Copies of the adjustment schedule and the Upper Missouri River Breaks National Monument Interpretive Center business plan are available for inspection at on-site, at the BLM Montana State Office, and at the BLM Lewistown Field Office.

e. Motorized vehicles must remain on constructed roadways, must park at designated sites only, and may not obstruct traffic flow or park at handicap accessible sites without having required accessible parking documentation. Cross-country vehicle travel is not allowed.

f. Drivers must obey posted speed limits at all times.

g. Pets must be kept on a leash within the interpretive center site, and day use areas must be kept free of pet waste.

h. Organizations making a profit, or organizations seeking to make a profit at the UMRBNM Interpretive Center, are classified as commercial and must obtain a special recreation permit separate from the standard amenity fee at the interpretive center.

2. Exceptions.

Federal, state, and local law enforcement officers, government employees, and BLM volunteers acting in the course of their official duties are exempt from these supplementary rules. Limitations on the use of motorized vehicles do not apply to emergency vehicles, fire suppression and rescue vehicles, law enforcement vehicles, and other vehicles performing official duties, or as approved by an authorized officer of BLM.

3. Violations of these rules are punishable by a fine not to exceed $1,000 and/or imprisonment not to exceed 12 months (43 CFR 8360.0-7), or the enhanced penalties established in 18 U.S.C. 3571.

Authority: Notice of establishment of the fee area is provided pursuant to 16 U.S.C. 6803(b). Supplementary Rules are established pursuant to 43 CFR 8365.1-5. BLM welcomes public comments on this proposal.

Dated: April 17, 2007.
June Bailey,
Field Office Manager, Lewistown Field Office.

[FR Doc. E7-13083 Filed 7-5-07; 8:45 am]

BILLING CODE 4310-SS-P